DEPARTMENT OF COMMERCE

Foreign-Trade Zones Board

[B-21-2014]

Authorization of Production Activity, Foreign-Trade Subzone 41H, Mercury Marine (Marine Engine and Stern Drive Components), Fond du Lac, Wisconsin

On February 19, 2014, Mercury Marine, operator of Subzone 41H, submitted a notification of proposed production activity to the Foreign-Trade Zones (FTZ) Board for its facilities located in Fond du Lac, Wisconsin.

The notification was processed in accordance with the regulations of the FTZ Board (15 CFR part 400), including notice in the Federal Register inviting public comment (79 FR 14476, 3-14-2014). The FTZ Board has determined that no further review of the activity is warranted at this time. The production activity described in the notification is authorized, subject to the FTZ Act and the FTZ Board's regulations, including Section 400.14.

Dated: June 19, 2014.
Elizabeth Whiteman,
Acting Executive Secretary.

[FR Doc. 2014-15000 Filed 6-25-14; 8:45 am]

BILLING CODE 3510-DS-P